NATIONAL AERONAUTICS AND SPACE ADMINISTRATION

[Notice (09-089)]

Review of U.S. Human Space Flight Plans Committee; meeting

AGENCY: National Aeronautics and Space Administration.

ACTION: Notice of meeting.

SUMMARY: In accordance with the Federal Advisory Committee Act, Public Law 92-463, as amended, the National Aeronautics and Space Administration announces a public teleconference of the Review of U.S. Human Space Flight Plans Committee. The agenda topics for the meeting include:

• Finalization of the scoring of the Human Space Flight options.

DATES: Thursday, October 8, 2009, 1 p.m.-2 p.m. (Eastern).

Teleconference Information:

Toll-free number: 1-888-373-5705.

Toll number: 1-719-457-3840.

Participant Passcode: 190078.

FOR FURTHER INFORMATION CONTACT: Mr. Philip R. McAlister, Office of Program Analysis and Evaluation, National Aeronautics and Space Administration, Washington, DC 20546. Phone: 202-358-0712.

SUPPLEMENTARY INFORMATION: The teleconference will be open to the public up to the limit of the teleconference service (300 people). Public callers will be in listen-only mode. It is imperative that the meeting be held on this date in order for the Committee's Final Report to support the timeframes associated with the Federal budget process. For this reason it is not possible to accommodate the full notice period.

P. Diane Rausch,
Advisory Committee Management Officer, National Aeronautics and Space Administration.

[FR Doc. E9-24251 Filed 10-6-09; 8:45 am]

BILLING CODE 7510-13-P